DEPARTMENT OF ENERGY

Federal Energy Regulatory Commission

[Docket No. CP02-1-000]

Southern Natural Gas Company; Notice of Site Visit

February 6, 2002.

On February 11, 12, 13, and 14, 2002, the staff of the Office of Energy Projects (OEP) will conduct a pre-certification site visit of Southern Natural Gas Company's (Southern) South System Expansion II Project in St. Tammany Parish, Louisiana; Clarke, Lauderdale, and Jefferson David Counties, Mississippi; Sumter, Marengo, Hale, Perry, Autauga, Elmore, Tallapoosa, and Lee Counties, Alabama; and Harris, Talbot, Monroe, Bibb, Jones, Baldwin, Washington, Jefferson, Richmond, Upson, Effingham, and Chatham Counties, Georgia. The project area will be inspected by automobile and on foot, as appropriate. Representatives of Southern will accompany the OEP staff.

All interested parties may attend. Those planning to attend must provide their own transportation. For additional information, contact the Commission's Office of External Affairs at (202) 208-1088.

Magalie R. Salas,
Secretary.

[FR Doc. 02-3325 Filed 2-11-02; 8:45 am]

BILLING CODE 6717-01-P